DEPARTMENT OF HOUSING AND URBAN DEVELOPMENT

[Docket No. FR-5415-N -21]

Notice of Availability: HUD's Fiscal Year (FY) 2010 NOFA for the Capital Fund Education and Community Facilities Program—Technical Correction and Extension of Deadline Date

AGENCY: Office of the Chief Human Capital Officer, HUD.

ACTION: Notice.

SUMMARY: On October 18, 2010, HUD posted on http://www.Grants.gov its Notice of Funding Availability (NOFA) for the Fiscal Year (FY) 2010 Capital Fund Education and Community Facilities (CFCF) Program. The NOFA made available approximately $35 million in assistance for development of facilities to provide early childhood education, adult education, and/or job training programs for public housing residents. Today's Federal Register publication announces that HUD has posted on http://www.Grants.gov a technical correction that makes several corrections and clarification to NOFA. Specifically, the corrected NOFA clarifies that Public Housing Agencies (PHAs) may submit multiple applications, but each application must include only one site. HUD has also revised the NOFA to specify tie breaking criteria. Further, in order to provide applicants with sufficient time to submit new or revised applications that incorporate the corrections and clarifications to the NOFA, HUD has extended the application deadline to February 3, 2011.

Potential applicants should review carefully the corrected NOFA to best determine whether to submit an updated application which incorporates the corrections and clarifications related to this notice. Applicants who submitted their applications prior to the technical correction notice can choose to submit an updated application that reflects the corrections and clarifications, but are not required to if they determine no changes are needed for their application. Applicants are reminded that if they submitted any portion of their application by fax with their initial application submission and choose to submit a revised application, then they will have to refax the materials after they submit the revised application to HUD. Please refer to the General Section for instructions regarding materials that are faxed and how HUD matches faxes to applications. For each site for which a PHA submits an application, the last version of the application received by http://www.Grants.gov by the deadline date, in accordance with the timely receipt requirements, will be the application that is reviewed and rated.

The revised NOFA can be found and downloaded from http://www.Grants.gov, using the CFDA number for that program, 14.890.

DATES: The revised application deadline date is February 3, 2011. Applications must be received by Grants.gov by 11:59:59 p.m. eastern time on the deadline date. See the General Section for timely receipt requirements. All information required to complete the application is in the General Section and this NOFA. Applicants may download the application and instructions from the Grants.gov Web site at http://www07.grants.gov/applicants/apply_for_grants.jsp. Please carefully read the Notice of HUD's Fiscal Year (FY) 2010 Notice of Funding Availability (NOFA) Policy Requirements and General Section to HUD's FY 2010 NOFAs for Discretionary Programs, posted on Grants.gov on June 7, 2010. Applicants need to be aware that following receipt, applications go through a validation process in which the application may be accepted or rejected. Please allow time for this process to ensure that you meet the timely receipt requirements.

FOR FURTHER INFORMATION CONTACT: Questions regarding specific program requirements may be directed to the agency contact identified in Section VII of the NOFA. Please send an e-mail message to PIHOCI@hud.gov or call Jeffrey Riddel at (202) 708-1640. Questions regarding the 2010 General Section may be directed to the Office of Departmental Grants Management and Oversight at 202-708-0667 (this is not a toll-free number) or the NOFA Information Center at 800-HUD-8929 (toll-free). Persons with hearing or speech impairments may access these numbers via TTY by calling the Federal Information Relay Service at 800-877-8339. The NOFA Information Center is open between the hours of 10 a.m. and 6:30 p.m. eastern time, Monday through Friday, except Federal holidays.

Dated: January 7, 2011.
Barbara S. Dorf,
Director, Office of Departmental Grants, Management and Oversight, Office of the Chief Human Capital Officer.

[FR Doc. 2011-658 Filed 1-12-11; 8:45 am]

BILLING CODE 4210-67-P